COMMODITY FUTURES TRADING COMMISSION

Notice of Meeting

Agency Holding the Meeting: Commodity Futures Trading Commission.

Time and Date: 10 a.m., Wednesday, March 29, 2000.

Place: 1155 21st St., N.W., Washington, D.C., Lobby Level Hearing Room.

Status: Open.

Matters to be Considered: Public Hearing on the Proposed Revision of the Commission's Procedure for the Review of Contract Market Rules.

Contact Person for More Information: Jean A. Webb, 202-418-5100.

Jean A. Webb,
Secretary of the Commisson.

[FR Doc. 00-5591 Filed 3-3-00; 8:45 am]

BILLING CODE 6351-01-M